DEPARTMENT OF TRANSPORTATION

Federal Motor Carrier Safety Administration

[Docket No. FMCSA-2007-27389]

Agency Information Collection Activities; Notice of Request for Comments on a New Information Collection: FMCSA COMPASS Portal Customer Satisfaction Assessment

AGENCY: Federal Motor Carrier Safety Administration (FMCSA), DOT.

ACTION: Notice; request for information; Correction.

SUMMARY: The FMCSA published a notice in the Federal Register on April 19, 2007, requesting comments on the renewal of a currently approved information collection. The subject line in the notice contained an incorrect type of information collection request for which comments were received.

FOR FURTHER INFORMATION CONTACT: Mr. Bill Coleman, Federal Motor Carrier Safety Administration, 1200 New Jersey Avenue, SE., Washington, DC 20590, telephone: (202) 366-4440; fax: (202) 493-0679; e-mail: bill.coleman@dot.gov. Office hours are from 9 a.m. to 5 p.m., Monday through Friday, except Federal holidays.

Correction

In the information collection document under Docket No. FMCSA-2007-27389, in the April 19, 2007, Federal Register [72 FR 19753], correct the SUBJECT section, text to read:

Notice of Request for Comments on a New Information Collection: * * *

Issued on: August 31, 2007.
Michael S. Griffith,
Acting Associate Administrator for Research and Information Technology.

[FR Doc. E7-17813 Filed 9-10-07; 8:45 am]

BILLING CODE 4910-EX-P